DEPARTMENT OF ENERGY

National Nuclear Security Administration

Agency Information Collection Extension

AGENCY: National Nuclear Security Administration, Department of Energy.

ACTION: Notice of request for comments.

SUMMARY: The Department of Energy (DOE) invites public comment on a proposed extension for three years of a collection of information that DOE with the Office of Management and Budget (OMB) pursuant to the Paperwork Reduction Act of 1995.

DATES: Comments regarding this proposed information collection must be received on or before March 4, 2024. If you anticipate any difficulty in submitting comments within that period, contact the person listed in the FOR FURTHER INFORMATION CONTACT section as soon as possible.

ADDRESSES: Written comments to Laura Fellow, Foreign Affairs Specialist, by mail at Office of Nonproliferation and Arms Control, National Nuclear Security Administration, U.S. Department of Energy, 1000 Independence Avenue SW, Washington, DC 20585, or by fax at (865) 203-3946 or by email at laura.fellow@nnsa.doe.gov. Due to potential delays in DOE's receipt and processing of mail sent through the U.S. Postal Service, DOE encourages responders to submit comments electronically to ensure timely receipt.

FOR FURTHER INFORMATION CONTACT: For other questions, contact Laura Fellow, Foreign Affairs Specialist, Office of Nonproliferation and Arms Control, National Nuclear Security Administration, U.S. Department of Energy, 1000 Independence Avenue SW, Washington, DC 20585, laura.fellow@nnsa.doe.gov, (865) 203-3946.

SUPPLEMENTARY INFORMATION: DOE published in the Federal Register a Notice of Availability for the American Assured Fuel Supply (AAFS), 76 FR 51357 (Aug. 18, 2011), and an application to standardize the information that must be provided in a request to access the material in the AAFS. 78 FR 72071 (Dec. 2, 2013). DOE previously submitted information collection extension requests to the OMB under the Paperwork Reduction Act of 1995 in 2017 and 2020. 82 FR 17650 (April 12, 2017), 85 FR 60451 (Sep. 25, 2020).

Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-NEW;

(2) Information Collection Request Title: The American Assured Fuel Supply Program;

(3) Type of Review: Extension;

(4) Purpose: DOE created the AAFS, a reserve of low enriched uranium (LEU) to serve as a backup fuel supply for foreign recipients to be supplied through U.S. persons, or for domestic recipients, in the event of fuel supply disruption. This effort supports the United States Government's nuclear nonproliferation objectives by supporting civilian nuclear energy development while minimizing proliferation risks. This collection of information in the event of supply disruption is necessary for DOE to identify if applicants meet basic requirements to access the AAFS and implement this important nonproliferation initiative;

(5) Annual Estimated Number of Respondents: 10;

(6) Annual Estimated Number of Total Responses: 10;

(7) Annual Estimated Number of Burden Hours: 8 per respondent for a total of 80 per year;

(8) Annual Estimated Reporting and Recordkeeping Cost Burden: $950.74 per respondent for a total of $9057.44 per year.

Statutory Authority: The Secretary of Energy is authorized, pursuant to the Atomic Energy of 1954, as amended (Pub. L. 83-703) (42 U.S.C. 2011 et seq.), and the Nuclear Non-Proliferation Act of 1978 (Pub. L. 95-242) (22 U.S.C. 3201 et seq.), to encourage the widespread use of atomic energy for peaceful purposes, and to enter into agreements and distribute nuclear material in cooperation with other nations where appropriate safeguard measures are in place to ensure the material is properly controlled and used for peaceful purposes.

DOE published in the Federal Register a notice of availability for the AAFS, 76 FR 51357 (Aug. 18, 2011), and a notice of availability of application guidance to standardize the information that must be provided in an application requesting LEU from the AAFS, 78 FR 72071 (Dec. 2, 2013). This second notice “requests that persons or companies that seek to purchase low enriched uranium (LEU) from the U.S. Department of Energy's American Assured Fuel Supply (AFS) provide information sufficient to evaluate the request to the Office of Nonproliferation and International Security [now called Office of Nonproliferation and Arms Control], National Nuclear Security Administration.”

Signing Authority

This document of the Department of Energy was signed on December 20, 2023, by Corey Hinderstein, Deputy Administrator for Defense Nonproliferation, National Nuclear Security Administration, pursuant to delegated authority from the Acting Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 27, 2023.
Treena V. Garrett,
Federal Register Liaison Officer, U.S. Department of Energy.

[FR Doc. 2023-28814 Filed 12-29-23; 8:45 am]

BILLING CODE 6450-01-P